DEPARTMENT OF TRANSPORTATION

Maritime Administration

[Docket No. MARAD-2019-0094]

Deepwater Port License Application: Bluewater Texas Terminal LLC; Project Scope Changes; Request for Comments

AGENCY: Maritime Administration, U.S. Department of Transportation.

ACTION: Notice and request for comments.

SUMMARY: The Maritime Administration (MARAD) and the U.S. Coast Guard (USCG) announce the receipt and availability of project scope changes for the Bluewater Deepwater Port License Application submitted by Bluewater Texas Terminal LLC (Bluewater) on May 4, 2020. The purpose of this notice is to summarize the project scope changes between the original application, submitted on May 30, 2019, and the recent changes submitted on May 4, 2020. This notice also seeks public comment regarding the proposed project scope changes. Please note, MARAD and USCG have determined that this notice is sufficient for satisfying National Environmental Policy Act (NEPA) requirements for public scoping and seeking public comment on an agency action.

DATES: Comments must be received on or before September 11, 2020.

ADDRESSES: The public docket for the Bluewater Texas Terminal LLC Deepwater Port License Application is maintained by the U.S. Department of Transportation, Docket Management Facility, West Building, Ground Floor, Room W12-140, 1200 New Jersey Avenue SE, Washington, DC 20590. The license application is available for viewing at the Regulations.gov website: http://www.regulations.gov under docket number MARAD-2019-0094.

We encourage you to submit comments electronically to the public docket online at http://www.regulations.gov. If you submit your comments electronically, it is not necessary to also submit a hard copy. If you cannot submit material using http://www.regulations.gov, please contact either Mr. Roddy Bachman, USCG or Ms. Yvette M. Fields, MARAD, as listed in the following FOR FURTHER INFORMATION CONTACT section of this document. This section provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. Roddy Bachman, U.S. Coast Guard, telephone: 202-372-1451, email: Roddy.C.Bachman@uscg.mil, or Ms. Yvette M. Fields, Maritime Administration, telephone: 202-366-0926, email: Yvette.Fields@dot.gov. For questions regarding viewing the Docket, call Docket Operations, telephone: 202-366-9317 or 202-366-9826.

SUPPLEMENTARY INFORMATION

Summary of the Revised Project Description

Bluewater is proposing to construct, own, and operate a deepwater port terminal in the Gulf of Mexico (GOM) to export domestically produced crude oil. The proposed project scope changes that are discussed in this notice involve the design, engineering, and construction of a deepwater port, approximately 56.18 miles of pipeline infrastructure, and an Operations facility.

Onshore Components

Onshore components associated with the proposed Bluewater project are those components on the landward side of the western Redfish Bay Mean High Tide (MHT) line located in San Patricio and Aransas Counties, Texas. Under the original project scope, the onshore components included an area that was approximately 22.20 miles of two (2) new parallel 30-inch-diameter crude oil pipelines extending from a planned multi-use terminal located south of the City of Taft in San Patricio County, Texas. The planned multi-use terminal consisted of multiple inbound and outbound crude oil pipelines. Two of those outbound pipelines composed the proposed pipeline infrastructure that would extend to the inshore pipeline, which would connect to the proposed Harbor Island Booster Station (Booster Station) described below.

Under the revised project scope, the onshore components now proposed will include an area that is approximately 22.13 miles of two (2) new parallel 30-inch-diameter crude oil pipelines extending from a planned multi-use terminal located south of the City of Taft in San Patricio County, Texas. The planned Multi-Use Terminal will connect to multiple inbound and outbound crude oil pipelines. Two of those outbound pipelines are the proposed pipeline infrastructure that will extend to the inshore pipeline, which will connect to the proposed operation facility located on Harbor Island described below. One water tank will be constructed at the Multi-Use Terminal to flush the offshore pipelines running to the SMPs described below.

Inshore Components

Inshore components associated with the proposed Bluewater project are those components located between the western Redfish Bay MHT line and the MHT line located at the interface of San Jose Island and the GOM. Under the original project scope, the inshore components included an area that was approximately 7.15 miles of two (2) new 30-inch-diameter crude oil pipelines connecting to the onshore facility, an approximately 19-acre booster station and a connection to the offshore pipeline. The onshore pipeline would have been located within San Patricio County, Texas and Nueces County, Texas, and the Booster Station would have been located on Harbor Island in Nueces County, Texas.

Under the revised project scope, the inshore components now proposed will include an area that is approximately 7.29 miles of two (2) new 30-inch-diameter crude oil pipelines connecting to the onshore facility, an approximately 12-acre operations station and a connection to the offshore pipeline. The onshore pipeline will be located within San Patricio County, Texas and Nueces County, Texas, and a proposed operations facility will be located on Harbor Island in Nueces County, Texas.

The Booster Station will include approximately 19 acres of land with two (2) above ground crude oil storage tanks, each with a total storage capacity of 181,000 barrels and two (2) 181,000-barrel water storage tanks. The purpose of water tanks is to allow for the clearing of the pipeline infrastructure. During clearing operations, water from the water storage tanks will be pumped through the pipelines and back to the Booster Station. The displaced crude oil will be placed in the two crude oil storage tanks.

Additionally, the Booster Station will contain equipment and piping to provide interconnectivity with the crude oil supply network for the Bluewater project. This will include the installation of four (4) 5,500 horsepower electrically powered motors in a series electronically locked into operation as two booster pumping systems delivering approximately 11,000 horsepower to each of the two (2) 30-inch diameter pipelines. Further, the Booster Station will house the necessary infrastructure to support the transport of crude oil through the proposed pipeline infrastructure to the deepwater port for the loading of moored vessels to include a fire water tank, firewater pumps, storm water runoff treatment plant and pumps, emergency generator, foam and water monitors and an operations office.

The operations facility located on Harbor Island will include approximately 12 acres of land and house the necessary infrastructure to support the transport of crude oil through the proposed pipeline infrastructure to the deepwater port for the loading of moored vessels. The facility will consist of pig launchers/receivers, meters and valves, operations building, and communications facility.

Offshore Components

Offshore components associated with the proposed Bluewater project are those components located seaward of the MHT line located at the interface of San Jose Island and the GOM. Under the original project scope, the offshore components included an area that was approximately 27.13 miles of two (2) new 30-inch-diameter crude oil pipelines extending from the shoreline crossing at the interface of San Jose Island to the offshore Bluewater deepwater port for crude oil delivery to Single Point Mooring (SPM) buoys.

Under the revised project scope, the offshore components now proposed include:

• An area that is approximately 26.76 miles of two (2) new 30-inch-diameter crude oil pipelines extending from the shoreline crossing at the interface of San Jose Island to the offshore Bluewater deepwater port for crude oil delivery to Single Point Mooring (SPM) buoys.

• Two (2) SPMs in Outer Continental Shelf Matagorda Island Area TX4 lease blocks 698 and 699, approximately 15 nautical miles (17.26 statute miles) off the coast of San Patricio County, Texas in a water depth of approximately 89 feet.

• A catenary anchor leg mooring (CALM) system for each SPM buoy connected to a pipeline end manifold (PLEM) system, mooring hawsers, floating hoses, and submarine hoses to allow for the loading of crude oil to vessels moored at the proposed deepwater port. The SPM buoy system will be permanently moored with a symmetrically arranged six-leg anchor dual chain configuration extending to twelve (12) 72-inch-diameter pile anchors installed on the seafloor.

• Each of the proposed SPM buoy systems will consist of inner and outer cylindrical shells subdivided into twelve equal-sized watertight radial compartments. A rotating table will be affixed to the SPM buoy and allow for the connection of moored vessels to the SPM buoy system via mooring hawsers. Two floating hoses equipped with marine break-away couplings will be utilized for the transfer of crude oil from the SPM buoy systems to the moored vessel. Floating hoses will be equipped with strobe lights at 15-foot intervals for detection at night and low-light conditions.

Privacy Act

The electronic form of all comments received into the Federal Docket Management System can be searched by the name of the individual submitting the comment (or signing the comment, if submitted on behalf of an association, business, labor union, etc.). The DOT Privacy Act Statement can be viewed in the Federal Register published on April 11, 2000 (Volume 65, Number 70, pages 19477-78) or by visiting http://www.regulations.gov.

(Authority: 33 U.S.C. 1501, et seq.; 49 CFR 1.93(h))

Dated: August 4, 2020.
By Order of the Maritime Administrator.
T. Mitchell Hudson, Jr.,
Secretary, Maritime Administration.

[FR Doc. 2020-17327 Filed 8-6-20; 8:45 am]

BILLING CODE 4910-81-P